DEPARTMENT OF DEFENSE

Department of the Army

Privacy Act of 1974; System of Records

AGENCY: Department of the Army, DoD.

ACTION: Notice to amend systems of records.

SUMMARY: The Department of the Army is proposing to amend the Preamble to its Compilation of Privacy Act systems of records notices. The entries being amended are For Further Assistance: and Point of Contact:.

DATES: This proposed action will be effective without further notice on November 1, 2004 unless comments are received which result in contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The specific change to the Preamble is set forth below. The proposed amendment is not within the purview of subsection (r) of the Privacy Act of 1974, (5 U.S.C. 552a), as amended, which requires the submission of a new or altered system report.

Dated: September 17, 2004.
L.M. Bynum,
Alternate OSD Federal Register Liaison Officer, Department of Defense.

Within the Preamble to the Department of the Army's Compilation of Privacy Act systems of records notices, revised the following entries to read as follows:

For Further Assistance:

Any questions should be addressed to the Department of the Army, Freedom of Information/Privacy Division, U.S. Army Records Management and Declassification Agency, ATTN: AHRC-PDD-FPZ, 7701 Telegraph Road, Casey Building, Suite 144, Alexandria, VA 22325-3905.

Point of Contact:

Ms. Janice Thornton at (703) 428-6504/DSN 328-6504.

[FR Doc. 04-21323 Filed 9-30-04; 8:45 am]

BILLING CODE 5001-06-M